NATIONAL AERONAUTICS AND SPACE ADMINISTRATION

[Notice: 18-084]

National Space Council Users' Advisory Group; Meeting

AGENCY: National Aeronautics and Space Administration.

ACTION: Notice of meeting.

SUMMARY: In accordance with the Federal Advisory Committee Act, as amended, the National Aeronautics and Space Administration (NASA) announces a meeting of the National Space Council Users' Advisory Group (UAG). This will be the second meeting of the UAG.

DATES: Thursday, November 15, 2018, from 9:00 a.m.-4:00 p.m., Eastern Time.

ADDRESSES: NASA Headquarters, Executive Conference Center, Room 8Q40B, 300 E Street SW, Washington, DC 20546. Please note that if the prior room is filled to maximum capacity, an overflow room will be provided in the James E. Webb Memorial Auditorium, located on the 1st floor, near the west end lobby.

FOR FURTHER INFORMATION CONTACT: Mr. Brandon Eden, UAG Designated Federal Officer/Executive Secretary, NASA Headquarters, Washington, DC 20546, (202) 358-2470 or brandon.t.eden@nasa.gov.

SUPPLEMENTARY INFORMATION: This meeting will be open to the public up to the capacity of the meeting room. This meeting is also available telephonically and by WebEx. You must use a touch-tone phone to participate in this meeting. Any interested person may dial the toll free number 1-888-942-9869 or the toll number 1-517-308-9460 and then the numeric passcode 9695733, followed by the # sign. NOTE: If dialing in, please “mute” your phone. To join via WebEx, the link is https://nasaenterprise.webex.com/. The meeting number on November 15 is 904 172 523 and the meeting password is BgR6jDz@ (case sensitive). The agenda for the meeting will include the following:

—Opening Remarks by UAG Chairman

—Reports from UAG Subcommittees:

○ Exploration and Discovery Subcommittee

○ National Security Space Subcommittee

○ Economic Development/Industrial Base Subcommittee

○ Technology and Innovation Subcommittee

○ Outreach and Education Subcommittee

○ Space Policy and International Engagement Subcommittee

—Update on NASA Exploration Campaign and DoD Space Planning

—Other UAG Business and Public Input

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status no less than 3 working days prior to the meeting. Information should be sent to Mr. Brandon Eden via email at brandon.t.eden@nasa.gov. It is imperative that the meeting be held on these dates to the scheduling priorities of the key participants. For further information, visit the UAG website at: https://www.nasa.gov/content/national-space-council-users-advisory-group.

Patricia Rausch,
Advisory Committee Management Officer, National Aeronautics and Space Administration.

[FR Doc. 2018-23492 Filed 10-26-18; 8:45 am]

BILLING CODE 7510-13-P